DEPARTMENT OF THE INTERIOR

Bureau of Land Management

[LLNVW00000 L16100000.DP0000 LXSS015F0000 241A; 10-08807; MO#4500012011; TAS:14X1109]

Notice of Availability of the Draft Winnemucca District Resource Management Plan and Environmental Impact Statement, Nevada

AGENCY: Bureau of Land Management, Interior.

ACTION: Notice of Availability.

SUMMARY: In accordance with the National Environmental Policy Act of 1969, as amended, and the Federal Land Policy and Management Act of 1976, as amended, the Bureau of Land Management (BLM) has prepared a Draft Resource Management Plan (RMP) and Draft Environmental Impact Statement (EIS) for the Winnemucca District and by this notice is announcing the opening of the comment period.

DATES: To ensure that comments will be considered, the BLM must receive written comments on the Draft RMP/Draft EIS within 90 days following the date the Environmental Protection Agency publishes its notice of the Draft RMP/Draft EIS in the Federal Register. The BLM will announce future meetings or hearings and any other public participation activities at least 15 days in advance through public notices, media releases, and/or mailings.

ADDRESSES: You may submit comments related to the Winnemucca District Draft RMP/Draft EIS by any of the following methods:

• Web site: http://www.blm.gov/nv/st/en/fo/wfo/blm_information/rmp

• E-mail: wdrmp@blm.gov.

• Fax: (775) 623-1503

• Mail: Bureau of Land Management, Winnemucca District Draft RMP/EIS, 5100 East Winnemucca Boulevard, Winnemucca, Nevada 89445.

Copies of the Winnemucca District Draft RMP/Draft EIS are available in the Winnemucca District Office at the above address or on the following website: http://www.blm.gov/nv/st/en/fo/wfo/blm_information/rmp

FOR FURTHER INFORMATION CONTACT: For further information contact Bob Edwards, RMP Team Lead, telephone (775) 623-1597; address 5100 E. Winnemucca Boulevard, Winnemucca, Nevada 89445, e-mail: Robert_Edwards@nv.blm.gov.

SUPPLEMENTARY INFORMATION: The Winnemucca District Draft RMP/Draft EIS was developed through a collaborative planning process. The Winnemucca RMP decision area encompasses approximately 7.2 million acres of public land administered by the BLM Winnemucca District, which are located in Humboldt, Pershing, Lyon, Churchill and Washoe counties, Nevada. It does not include private lands, State lands, Indian reservations, Federal lands not administered by BLM or lands addressed in the Black Rock Desert-High Rock Canyon, Emigrant Trails National Conservation Area RMP EIS (July 2004).

The Draft RMP/Draft EIS includes strategies for protecting and preserving the biological, wildlife, cultural, recreational, geological, educational, scientific, and scenic values while managing for sustainable development, energy and mineral development, and livestock grazing. Current guidance is provided by the Sonoma-Gerlach and Paradise-Denio Management Framework Plans (1982) and land use plan amendments (1999). The key issues raised during the planning process include landscape health, recreation, access, transportation routes, wilderness characteristics, and visual resources. Five alternatives, including a no-action alternative, were developed in response to these key issues. The alternatives also address air resources, biological resources, cultural resources, fire management, grazing management, hazardous materials, lands and realty, mineral and energy resources, Native American issues, social and economic conditions, soils, and water resources. The no action alternative, Alternative A, represents the current management of public lands within the Winnemucca District. The four action alternatives, Alternatives B through D, present reasonable, yet varying, management scenarios. The alternatives range from emphasizing maintenance of the naturalness of the Winnemucca District decision area, by restricting some human uses, to emphasizing continued human uses. Comments collected during the scoping process in 2005, during which four public open houses were held, were instrumental in determining the issues to be addressed. Through the Draft RMP/Draft EIS, the BLM is seeking public input on the developed alternatives that address these issues. The Winnemucca District's preferred alternative is Alternative D which focuses on a balance between managing public lands for economic and recreational growth while protecting valuable resources. Alternative D also incorporates sustainable development principles and techniques to achieve this balance.

The Osgood Mountains Milkvetch Area of Critical Environmental Concern (ACEC) is the only special designation area currently within the Winnemucca District. The use limitations in this area include: closure to mineral material disposal (salable minerals); no surface occupancy and stipulations to accompany fluid and solid mineral leasing; locatable minerals withdrawn from entry; and Visual Resource Management (VRM) Class II. Alternative B mirrors the Alternative A management of the ACEC. Alternative C proposes to designate three new ACECs: Pine Forest, Raised Bog and Stillwater Range. Management of all four ACECs would be as follows: closed to mineral material disposal (salable minerals), fluid mineral and solid mineral leasing; locatable minerals withdrawn from entry; priority fire suppression areas; and VRM Class II. Alternative D is almost identical to the proposal in Alternative C and in addition the proposed ACECs would be closed to new communication sites. The proposed Pine Forest, Raised Bog, and Stillwater Range ACECs would be open for acquiring the rights to locatable minerals with special mitigation on operations. Alternative D proposes to manage the Osgood Mountains Milkvetch ACEC as a VRM Class III.

Before including your address, phone number, e-mail address, or other personal identifying information in your comment, you should be aware that your entire comment-including your personal identifying information-may be made publicly available at any time. While you can ask us in your comment to withhold your personal identifying information from public review, we cannot guarantee that we will be able to do so.

Ron Wenker,
State Director, Nevada.

Authority: 40 CFR 1506.6, 1506.10, and 43 CFR 1610.2

[FR Doc. 2010-15326 Filed 6-24-10; 8:45 am]

BILLING CODE 4310-HC-P